DEPARTMENT OF AGRICULTURE

Forest Service

Notice of Meeting; Federal Lands Recreation Enhancement Act (Title VIII, Pub. L. 108-447)

AGENCY: Rocky Mountain Region, USDA Forest Service.

ACTION: Notice of meeting.

SUMMARY: The Colorado Recreation Resource Advisory Committee will tentatively meet in Denver, CO. The purpose of the meeting is to continue to provide the new committee members with the information they need to be effective committee members and review several fee proposals. These fee proposals will tentatively include several new cabin rentals and fee changes for: The Green Mountain Reservoir/Cataract Lake Fee area, Indian Peaks Wilderness Camping permit fee, and the Arapaho National Recreation Area.

DATES: The meeting will be held February 27 from 9 a.m.-4:30 p.m. This meeting will only be held if a quorum is present.

ADDRESSES: The meeting will be at the REI Denver Flagship Store at 1416 Platte Street in Denver in their large conference room on the 3rd floor. Access prior to store opening is through Starbucks. Send written comments to Greg Griffith, Designated Federal Official, 740 Simms Street, Golden, CO 80401 or ggriffith@fs.fed.us.

FOR FURTHER INFORMATION CONTACT: Pam DeVore, Colorado Recreation Resource Advisory Committee Coordinator, at 303-275-5043 or pdevore@fs.fed.us.

SUPPLEMENTARY INFORMATION: The meeting is open to the public. Committee discussion is limited to Forest Service, Bureau of Land Management staff, and Committee members. Persons who wish to bring recreation fee matters to the attention of the Committee may file written statements with the Committee staff. Written comments received at least a week before the meeting will be available for committee review. Written comments received less than a week before the meeting may not be available for committee referral. There will be time on the agenda for verbal comments and the Chairperson may ask for comments from the public at any time during the meeting. All persons wishing to address the committee must sign in at the door.

Check for the status of the meeting, the final agenda and a final list of the fee proposals to be reviewed at: http://www.fs.fed.us/r2/recreation.

The Recreation RAC is authorized by the Federal Land Recreation Enhancement Act, which was signed into law by President Bush in December 2004.reneescott

Dated: January 10, 2008.
Greg Griffith,
DFO, Colorado Recreation Resource Advisory Committee.

[FR Doc. 08-154 Filed 1-17-08; 8:45 am]

BILLING CODE 3410-11-M